DEPARTMENT OF HEALTH AND HUMAN SERVICES

Substance Abuse and Mental Health Services Administration

Fiscal Year (FY) 2022 Notice of Supplemental Funding Opportunity

AGENCY: Substance Abuse and Mental Health Services Administration, HHS.

ACTION: Notice of intent to award supplemental funding.

SUMMARY: This is a notice of intent to award supplemental funding to the 13 Mental Health Technology Transfer Center (MHTTC) Cooperative Agreement recipients funded in FY 2018 under Funding Opportunity Announcement SM-18-015. This is to inform the public that the Substance Abuse and Mental Health Services Administration (SAMHSA) is supporting one-year administrative supplements up to $304,081 per recipient.

This supplement will provide continued direct technical assistance (TA) and training on the implementation and delivery of mental health services in schools and school systems, including training and TA provided to Project AWARE grantees. This will involve not only TA to the general field but provision of direct and tailored TA to grantees on school-based mental health services implementation. This is not a formal request for application. Assistance will only be provided to the Mental Health Technology Transfer Center Cooperative Agreement grant recipients based on receipt of a satisfactory application and associated budget. These recipients were funded in FY 2018 under the Mental Health Technology Transfer Center Cooperative Agreement Funding Opportunity Announcement SM-18-015 with a project end date of August 29, 2023.

SUPPLEMENTARY INFORMATION:

Funding Opportunity Title: FY 2018 Mental Health Technology Transfer Center Cooperative Agreements, SM-18-015.

Assistance Listing Number: 93.243.

Authority: Section 520A of the Public Health Service Act, as amended.

Justification: Eligibility for this supplemental funding is limited to the 13 Mental Health Technology Transfer Center Cooperative Agreement recipients that were funded in FY 2018 under the Mental Health Technology Transfer Center Cooperative Agreement (SM-18-015). The recipients have unique and special expertise in accelerating the adoption and implementation of mental health-related evidence-based practices; heightening the awareness, knowledge, and skills of the workforce that addresses the needs of individuals with serious mental illness or serious emotional disturbance; fostering regional and national alliances among culturally diverse practitioners, researchers, policy makers, family members, and consumers of mental health services; and ensuring the availability of training and technical assistance to SAMHSA/Center for Mental Health Services grant recipients. The MHTTCs are uniquely positioned to coordinate and manage SAMHSA's national efforts to ensure that high quality, effective mental health treatment and recovery support services, and evidence-based practices are available for all individuals with mental disorders, especially those with serious mental illness or serious emotional disturbance.

Contact: Kimberly Reynolds, Substance Abuse and Mental Health Services Administration, 5600 Fishers Lane, Rockville, MD 20857, telephone (240) 276-2825; email: Kimberly.reynolds@samhsa.hhs.gov.

Carlos Graham,
Reports Clearance Officer.

[FR Doc. 2022-18800 Filed 8-30-22; 8:45 am]

BILLING CODE 4162-20-P